DEPARTMENT OF ENERGY

Federal Energy Regulatory Commission

Combined Notice of Filings #1

April 26, 2007.

Take notice that the Commission received the following exempt wholesale generator filings:

Docket Numbers: EG07-47-000.

Applicants: Covanta Waste to Energy Asia Ltd.

Description: Notice of Self-Certification as an Exempt Wholesale Generator of Covanta Waste to Energy Asia Ltd.

Filed Date: 04/25/2007.

Accession Number: 20070425-5027.

Comment Date: 5 p.m. Eastern Time on Wednesday, May 16, 2007.

Take notice that the Commission received the following electric rate filings:

Docket Numbers: ER07-457-001.

Applicants: E. ON U.S., LLC.

Description: E.ON US, LLC et al submits this letter to transmit the information required in the 3/23/07 deficiency letter.

Filed Date: 04/23/2007.

Accession Number: 20070425-0253.

Comment Date: 5 p.m. Eastern Time on Monday, May 14, 2007.

Docket Numbers: ER07-738-000.

Applicants: Duke Energy Carolinas, LLC.

Description: Duke Energy Carolinas, LLC submits a notice of adoption of revised transmission loading relief procedures.

Filed Date: 04/09/2007.

Accession Number: 20070413-0151.

Comment Date: 5 p.m. Eastern Time on Friday, May 4, 2007.

Docket Numbers: ER07-775-000.

Applicants: American Electric Power Service Corp.

Description: The American Electric Power Service Corporation agent for AEP Operating Companies requests acceptance of an Interconnection & Local Delivery Service Agreement 1578 with Monongahela Power Co.

Filed Date: 04/23/2007.

Accession Number: 20070425-0165.

Comment Date: 5 p.m. Eastern Time on Monday, May 14, 2007.

Docket Numbers: ER97-2846-012.

Applicants: Florida Power Corporation.

Description: Florida Power Corporation dba Progress Energy Florida Inc submits its notice of change in status with respect to PEF generating capacity pursuant to FERC's Order 652.

Filed Date: 04/23/2007.

Accession Number: 20070425-0160.

Comment Date: 5 p.m. Eastern Time on Monday, May 14, 2007.

Take notice that the Commission received the following foreign utility company status filings:

Docket Numbers: FC07-49-000.

Applicants: CMS Generation LLC.

Description: Notification of Self-Certification of Foreign Utility Company Status of CMS Generation LLC.

Filed Date: 04/25/2007.

Accession Number: 20070425-5024.

Comment Date: 5 p.m. Eastern Time on Wednesday, May 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-8555 Filed 5-3-07; 8:45 am]

BILLING CODE 6717-01-P